DEPARTMENT OF ENERGY

Federal Energy Regulatory Commission

[Docket No. CP08-100-000]

Texas Eastern Transmission, LP; Notice of Intent To Prepare An Environmental Assessment for the Proposed; Northern Bridge Project and Request for Comments on Environmental Issues

May 5, 2008.

The staff of the Federal Energy Regulatory Commission (FERC or Commission) will prepare an environmental assessment (EA) that will discuss the environmental impacts of the Texas Eastern Transmission, LP (Texas Eastern) involving construction and operation of facilities by Texas Eastern Richhill Township, Greene County and Uniontown Township, Fayette County, Pennsylvania.

This notice announces the opening of the scoping process we will use to gather input from the public and interested agencies on the project. Your input will help the Commission staff determine which issues need to be evaluated in the EA. Please note that the scoping period will close on June 4, 2008.

This notice is being sent to affected landowners; federal, state, and local government representatives and agencies; environmental and public interest groups; Native American tribes; other interested parties in this proceeding; and local libraries and newspapers. We encourage government representatives to notify their constituents of this planned project and encourage them to comment on their areas of concern.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice BBS provided to landowners. This fact sheet addresses a number of typically asked questions, including the use of eminent domain and how to participate in the Commission's proceedings. It is available for viewing on the FERC Internet Web site (http://www.ferc.gov).

Summary of the Proposed Project

The proposed project would involve modifications of the Holbrook Compressor Station (Holbrook CS) and the Uniontown Compressor Stations (Uniontown CS) as described below.

Holbrook CS

The Holbrook CS is an existing facility located in Rich Hill Township, Greene County, Pennsylvania. The entire compressor station site is 47.0 acres and is surrounded by the Ryerson Station State Park. The station has been in operation since the mid 1950's, and since that time no issues with surrounding landowners have occurred. The proposed Holbrook CS consists of three main components: (1) The installation of a new Solar Mars 100 13,333 horsepower (hp) turbine-driven centrifugal compressor package; (2) the uprate of an existing Solar Mars 100 unit, resulting in a 1,083 hp increase; and (3) the abandonment of four existing reciprocating gas compressor units, resulting in a 5,400 hp reduction. The new compressor unit will include a new compressor building and all necessary support infrastructure. The project components are detailed below.

• New 36-inch suction and 30-inch discharge tie-ins to the existing Texas Eastern pipeline(s)

• Install new suction scrubber

• Install one new Solar Mars 100 13,333 hp turbine driven centrifugal compressor

• Horsepower upgrade of an existing turbine compressor

• Install station emergency shutdown (ESD) system with blow-down

• Install one ventilated Compressor Building

• Install new electrical equipment building

• Install skid Auxiliary Building

• Tie-into the existing source control and recovery system

• Develop site including site grading, foundations, paving, yard stone, fencing, and access road to the new building

• Install 129 volts direct current uninterruptible power supply system

• Install Fire and Gas detection system in the Compressor Building

• Install facility security system(s)

• Install underground pipe cathodic protection system

• Abandon four existing GMV-10S reciprocating gas compressor units (5,400 hp reduction)

• Isolate aboveground components of the abandoned units

• All suction, discharge and fuel gas lines will be isolated

Uniontown CS

The Uniontown CS is an existing facility located in Fayette County, Pennsylvania. This station includes the uprate of an existing Solar Mars 100 compressor unit, resulting in an increase of 1,650 hp of compression. The uprate at Uniontown will not involve the modification of any facilities at Uniontown or cause any earth disturbance.

The location of the project facilities is shown in Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the last page of this notice. Copies of the appendices were sent to all those receiving this notice in the mail.

Nonjurisdictional Facilities

There are no non-jurisdictional facilities associated with this project.

Land Requirements for Construction

Construction of the proposed facilities would require about 4.6 acres of land at the Holbrook CS. Following construction, about 0.3 would be maintained as new aboveground facility sites and pipeline right-of-way. The remaining 4.3 acres of land would be restored and allowed to revert to its former use on the existing compressor station property. The work proposed for the Uniontown CS would not involve any new land disturbance because the modifications would be done within the existing compressor building.

The EA Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EA on the important environmental issues. By this Notice of Intent, the Commission staff requests public comments on the scope of the issues to address in the EA. All comments received are considered during the preparation of the EA. State and local government representatives are encouraged to notify their constituents of this proposed action and encourage them to comment on their areas of concern.

In the EA we ² will discuss impacts that could occur as a result of the construction and operation of the proposed project under these general headings:

² “We”, “us”, and “our” refer to the environmental staff of the Office of Energy Projects (OEP).

• Geology and soils

• Land use

• Water resources, fisheries, and wetlands

• Cultural resources

• Vegetation and wildlife

• Air quality and noise

• Endangered and threatened species

• Hazardous waste

• Public safety

We will also evaluate possible alternatives to the proposed project or portions of the project, and make recommendations on how to lessen or avoid impacts on the various resource areas.

Our independent analysis of the issues will be in the EA. Depending on the comments received during the scoping process, the EA may be published and mailed to federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section below.

Currently Identified Environmental Issues

We have already identified several issues that we think deserve attention based on a preliminary review of the proposed facilities and the environmental information provided by Texas Eastern This preliminary list of issues may be changed based on your comments and our analysis.

• Cultural resources may be affected by the project.

• The project may have air emissions and noise impacts.

• The Holbrook CS may have changed visual impacts.

Public Participation

You can make a difference by providing us with your specific comments or concerns about the project. By becoming a commentor, your concerns will be addressed in the EA/EIS and considered by the Commission. You should focus on the potential environmental effects of the proposal, alternatives to the proposal (including alternative locations/routes), and measures to avoid or lessen environmental impact. The more specific your comments, the more useful they will be. Please carefully follow these instructions to ensure that your comments are received in time and properly recorded:

• Send an original and two copies of your letter to:Kimberly D. Bose, Secretary, Federal Energy Regulatory Commission, 888 First St., NE., Room 1A, Washington, DC 20426.

• Label one copy of the comments for the attention of Gas Branch 2.

• Reference Docket No. CP07-451-000.

• Mail your comments so that they will be received in Washington, DC on or before June 4, 2008.

The Commission encourages electronic filing of comments. See 18 Code of Federal Regulations 385.2001(a)(1)(iii) and the instructions on the Commission's Internet Web site at http://www.ferc.gov under the link to “Documents and Filings” and “eFiling.” eFiling is a file attachment process and requires that you prepare your submission in the same manner as you would if filing on paper, and save it to a file on your hard drive. New eFiling users must first create an account by clicking on “Sign up” or “eRegister.” You will be asked to select the type of filing you are making. This filing is considered a “Comment on Filing.” In addition, there is a “Quick Comment” option available, which is an easy method for interested persons to submit text only comments on a project. The Quick-Comment User Guide can be viewed at http://www.ferc.gov/docs-filing/efiling/quick-comment-guide.pdf. Quick Comment does not require a FERC eRegistration account; however, you will be asked to provide a valid e-mail address. All comments submitted under either eFiling or the Quick Comment option are placed in the public record for the specified docket or project number(s). Comments submitted electronically must be submitted by June 4, 2008.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities. By this notice we are also asking governmental agencies, especially those in Appendix 2, to express their interest in becoming cooperating agencies for the preparation of the EA.

If you do not want to send comments at this time but still want to remain on our mailing list, please return the Information Request (Appendix 3). If you do not return the Information Request, you will be taken off the mailing list.

Becoming an Intervenor

In addition to involvement in the EA scoping process, you may want to become an official party to the proceeding known as an “intervenor.” Intervenors play a more formal role in the process. Among other things, intervenors have the right to receive copies of case-related Commission documents and filings by other intervenors. Likewise, each intervenor must send one electronic copy (using the Commission's eFiling system) or 14 paper copies of its filings to the Secretary of the Commission and must send a copy of its filings to all other parties on the Commission's service list for this proceeding.

If you want to become an intervenor you must file a motion to intervene according to Rule 214 of the Commission's Rules of Practice and Procedure (18 CFR 385.214). Only intervenors have the right to seek rehearing of the Commission's decision.

The Notice of Application for this proposed project issued on April 15, 2008 identified the date for the filing of interventions as April 30, 2008. However, affected landowners and parties with environmental concerns may be granted late intervenor status upon showing good cause by stating that they have a clear and direct interest in this proceeding which would not be adequately represented by any other parties. You do not need intervenor status to have your environmental comments considered.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm. Finally, public meetings or site visits will be posted on the Commission's calendar located at http://www.ferc.gov/EventCalendar/EventsList.aspx along with other related information.

Kimberly D. Bose,
Secretary.

[FR Doc. E8-10459 Filed 5-9-08; 8:45 am]

BILLING CODE 6717-01-P